DEPARTMENT OF TRANSPORTATION

Federal Aviation Administration

14 CFR Part 97

[Docket No. 30341; Amdt. No. 3033]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective December 3, 2002. The compliance date for each SIAP is specified in the amendatory provisions.

The incorporation by reference of certain publications listed in the regulations is approved by the Director of the Federal Register as of December 3, 2002.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on November 22, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

Effective December 26, 2002

Sacramento, CA, Sacramento Mather, ILS RWY 22L, Amdt 3

Effective January 23, 2003

Tallahassee, FL, Tallahassee Regional, VOR OR GPS RWY 18, Amdt 10

Tallahassee, FL, Tallahassee Regional, VOR/DME OR TACAN RWY 36, Orig

Tallahassee, FL, Tallahassee Regional, NDB OR GPS RWY 36, Amdt 19

Tallahassee, FL, Tallahassee Regional, ILS RWY 27, Amdt 7

Tallahassee, FL, Tallahassee Regional, ILS RWY 36, Amdt 23

Tallahassee, FL, Tallahassee Regional, RNAV (GPS) RWY 9, Orig

Tallahassee, FL, Tallahassee Regional, RNAV (GPS) RWY 27, Orig

Tallahassee, FL, Tallahassee Regional, GPS RWY 9, Orig-A, CANCELLED

Tallahassee, FL, Tallahassee Regional, GPS RWY 27, Orig-A, CANCELLED

Americus, GA, Souther Field, LOC RWY 23, Amdt 3

Americus, GA, Souther Field, NDB RWY 23, Amdt 3

Americus, GA, Souther Field, RNAV (GPS) RWY 5, Orig

Americus, GA, Souther Field, RNAV (GPS) RWY 23, Orig

Brazil, IN, Brazil Clay County, RNAV (GP) RWY 27, Orig

South Bend, IN, South Bend Regional, VOR RWY 18, Amdt 7D

South Bend, IN, South Bend Regional, RNAV (GPS) RWY 9L, Orig

South Bend, IN, South Bend Regional, RNAV (GPS) RWY 18, Orig

South Bend, IN, South Bend Regional, RNAV (GPS) RWY 27R, Orig

South Bend, IN, South Bend Regional, RNAV (GPS) RWY 36, Orig

Ulysses, KS, Ulysses, NDB RWY 12, Amdt 13

Ulysses, KS, Ulysses, RNAV (GPS) RWY 12, Orig

Ulysses, KS, Ulysses, RNAV (GPS) RWY 17, Orig

Ulysses, KS, Ulysses, RNAV (GPS) RWY 30, Orig

Ulysses, KS, Ulysses, RNAV (GPS) RWY 35, Orig

Henderson, KY, Henderson-City County, VOR-A, Amdt 10

Henderson, KY, Henderson-City County, NDB RWY 9, Amdt 4

Henderson, KY, Henderson-City County, RNAV (GPS) RWY 9, Orig

Henderson, KY, Henderson-City County, RNAV (GPS) RWY 27, Orig

Henderson, KY, Henderson-City County, GPS RWY 27, Orig, CANCELLED

Prestonburg, KY, Big Sandy Regional, VOR/DME-A, Amdt 2

Prestonburg, KY, Big Sandy Regional, RNAV (GPS) RWY 3, Orig

Prestonburg, KY, Big Sandy Regional, RNAV (GPS) RWY 21, Orig

Tallulah, LA, Vicksburg Tallulah Regional, LOC RWY 36, Amdt 1

Tallulah, LA, Vicksburg Tallulah Regional, NDB RWY 36, Amdt 1

Tallulah, LA, Vicksburg Tallulah Regional, RNAV (GPS) RWY 18, Amdt 1

Tallulah, LA, Vicksburg Tallulah Regional, RNAV (GPS) RWY 36, Amdt 1

Bay City, MI, James Clements Muni, RNAV (GPS) RWY 18, Orig

Hancock, MI, Houghton County Memorial, RNAV (GPS) RWY 7, Orig

Hancock, MI, Houghton County Memorial, RNAV (GPS) RWY 25, Orig

Sault Ste Marie, MI, Chippewa County Intl, RNAV (GPS) RWY 9, Orig

Sault Ste Marie, MI, Chippewa County Intl, RNAV (GPS) RWY 27, Orig

Sedalia, MO, Sedalia Memorial, NDB RWY 18, Amdt 8

Sedalia, MO, Sedalia Memorial, NDB RWY 36, Amdt 9

Sedalia, MO, Sedalia Memorial, RNAV (GPS) RWY 18, Orig

Sedalia, MO, Sedalia Memorial, RNAV (GPS) RWY 36, Orig

Sedalia, MO, Sedalia Memorial, GPS RWY 18, Orig-B, CANCELLED

Sedalia, MO, Sedalia Memorial, GPS RWY 36, Orig-B, CANCELLED

Laurel, MT, Laurel Muni, VOR RWY 22, Amdt 2

Laurel, MT, Laurel Muni, RNAV (GPS) RWY 4, Orig

Laurel, MT, Laurel Muni, RNAV (GPS) RWY 22, Orig

Greensboro, NC, Piedmont Triad Intl, VOR RWY 5, Amdt 12C

Greensboro, NC, Piedmont Triad Intl, VOR/DME RWY 23, Amdt 9D

Greensboro, NC, Piedmont Triad Intl, NDB RWY 14, Amdt 15D

Greensboro, NC, Piedmont Triad Intl, RNAV (GPS) RWY 5, Orig

Greensboro, NC, Piedmont Triad Intl, RNAV (GPS) RWY 14, Orig

Greensboro, NC, Piedmont Triad Intl, RNAV (GPS) RWY 23, Orig

Greensboro, NC, Piedmont Triad Intl, RNAV (GPS) RWY 32, Orig

Greensboro, NC, Piedmont Triad Intl, GPS RWY 32, Orig, CANCELLED

Greenville, NC, Pitt-Greenville, RNAV (GPS) RWY 8, Orig

Greenville, NC, Pitt-Greenville, RNAV (GPS) RWY 20, Orig

Greenville, NC, Pitt-Greenville, RNAV (GPS) RWY 26, Orig

Greenville, NC, Pitt-Greenville, RNAV (GPS) Y RWY 2, Orig

Greenville, NC, Pitt-Greenville, RNAV (GPS) Z RWY 2, Orig

Greenville, NC, Pitt-Greenville, GPS RWY 2, Amdt 1, CANCELLED

Greenville, NC, Pitt-Greenville, GPS RWY 20, Amdt 1, CANCELLED

Williamston, NC, Martin County, NDB RWY 21, Amdt 5

Williamston, NC, Martin County, RNAV (GPS) RWY 3, Orig

Williamston, NC, Martin County, RNAV (GPS) RWY 21, Orig

Minot, ND, Minot Intl, ILS RWY 31, Amdt 9

Gordon, NE, Gordon Muni, RNAV (GPS) RWY 4, Orig

Kearney, NE, Kearney Muni, ILS RWY 36, Amdt 1

Kearney, NE, Kearney Muni, NDB RWY 36, Amdt 5

Kearney, NE, Kearney Muni, VOR RWY 13, Amdt 2

Kearney, NE, Kearney Muni, VOR RWY 18, Amdt 13

Kearney, NE, Kearney Muni, VOR RWY 36, Amdt 10

Kearney, NE, Kearney Muni, RNAV (GPS) RWY 36, Orig

Kearney, NE, Kearney Muni, GPS RWY 36, Orig, CANCELLED

Valentine, NE, Miller Field, RNAV (GPS) RWY 14, Orig

Farmington, NM, Four Corners Regional, VOR RWY 23, Orig

Farmington, NM, Four Corners Regional, VOR RWY 25, Amdt 10

Farmington, NM, Four Corners Regional, VOR/DME RWY 5, Orig

Farmington, NM, Four Corners Regional, RNAV (GPS) RWY 5, Orig

Farmington, NM, Four Corners Regional, RNAV (GPS) RWY 7, Amdt 1

Farmington, NM, Four Corners Regional, RNAV (GPS) RWY 23, Orig

Las Cruces, NM, Las Cruces Intl, NDB RWY 30, Amdt 1

Las Cruces, NM, Las Cruces Intl, ILS RWY 30, Amdt 2

Las Cruces, NM, Las Cruces Intl, RNAV (GPS) RWY 12, Orig

Las Cruces, NM, Las Cruces Intl, RNAV (GPS) RWY 30, Orig

Las Cruces, NM, Las Cruces Intl, GPS RWY 30, Orig, CANCELLED

Buffalo, OK, Buffalo Muni, NDB-A, Amdt 2

Buffalo, OK, Buffalo Muni, RNAV (GPS) RWY 17, Orig

Buffalo, OK, Buffalo Muni, GPS RWY 17, Orig, CANCELLED

Chandler, OK, Chandler Muni, NDB RWY 35, Amdt 1

Chandler, OK, Chandler Muni, RNAV (GPS) RWY 17, Orig

Chandler, OK, Chandler Muni, RNAV (GPS) RWY 35, Orig

Chandler, OK, Chandler Muni, GPS RWY 17, Orig, CANCELLED

Chandler, OK, Chandler Muni, GPS RWY 35, Orig, CANCELLED

Clinton, OK, Clinton Muni, RNAV (GPS) RWY 35, Orig

Clinton, OK, Clinton Muni, GPS RWY 35, Amdt 1, CANCELLED

Hobart, OK, Hobart Muni, RNAV (GPS) RWY 17, Orig

Hobart, OK, Hobart Muni, RNAV (GPS) RWY 35, Orig

Hobart, OK, Hobart Muni, GPS RWY 17, Orig-A, CANCELLED

Hobart, OK, Hobart Muni, GPS RWY 35, Orig-A, CANCELLED

Bend, OR, Bend Muni, VOR/DME RWY 16, Amdt 8

Bend, OR, Bend Muni, RNAV (GPS) RWY 16, Orig

Redmond, OR, Roberts Field, VOR-A, Amdt 5

Redmond, OR, Roberts Field, VOR/DME RWY 22, Amdt 3

Redmond, OR, Roberts Field, RNAV (GPS) RWY 28, Orig

Redmond, OR, Roberts Field, GPS RWY 28, Orig, CANCELLED

Paris, TN, Henry County, RNAV (GPS) RWY 20, Orig

Smithville, TN, Smithville Muni, RNAV (GPS) RWY 6, Orig

Austin, TX, Austin-Bergstrom Intl, ILS RWY 17L, Amdt 1

Austin, TX, Austin-Bergstrom Intl, ILS RWY 17R, Amdt 2

Austin, TX, Austin-Bergstrom Intl, ILS RWY 35L, Amdt 2

Austin, TX, Austin-Bergstrom Intl, ILS RWY 35R, Amdt 1

Austin, TX, Austin-Bergstrom Intl, RNAV (GPS) RWY 17L, Orig

Austin, TX, Austin-Bergstrom Intl, RNAV (GPS) RWY 17R, Orig

Austin, TX, Austin-Bergstrom Intl, RNAV (GPS) Y RWY 35L, Orig

Austin, TX, Austin-Bergstrom Intl, RNAV (GPS) Z RWY 35L, Orig

Austin, TX, Austin-Bergstrom Intl, RNAV (GPS) RWY 35R, Orig

Austin, TX, Austin-Bergstrom Intl, GPS RWY 17L, Orig. CANCELLED

Austin, TX, Austin-Bergstrom Intl, GPS RWY 17R, Amdt 1B, CANCELLED

Austin, TX, Austin-Bergstrom Intl, GPS RWY 35L, Amdt 1B, CANCELLED

Austin, TX, Austin-Bergstrom Intl, GPS RWY 35R, Orig B, CANCELLED

George West, TX, Live Oak County, VOR/DME-A, Amdt 2

George West, TX, Live Oak County, RNAV (GPS) RWY 13, Orig

George West, TX, Live Oak County, GPS RWY 13, Orig, CANCELLED

El Paso, TX, El Paso Intl, RNAV (GPS) RWY 26L, Orig

El Paso, TX, El Paso Intl, RNAV (GPS) RWY 26R, Orig

El Paso, TX, El Paso Intl, GPS RWY 26L, Orig, CANCELLED

Houston, TX, West Houston, RNAV (GPS) Y RWY 33, Orig

Temple, TX, Draughon-Miller Central Texas Regional, LOC/DME BC RWY 33, Amdt 3A, CANCELLED

Wichita Falls, TX, Sheppard AFB/Wichita Falls Muni, NDB RWY 33L, Amdt 11

Wichita Falls, TX, Sheppard AFB/Wichita Falls Muni, VOR-D, Amdt 14

Wichita Falls, TX, Sheppard AFB/Wichita Falls Muni, RNAV (GPS) RWY 15R, Orig

Wichita Falls, TX, Sheppard AFB/Wichita Falls Muni, RNAV (GPS) RWY 33L, Orig

Evanston, WY, Evanston-Uinta County Burns Field, VOR/DME RWY 23, Amdt 2B

Evanston, WY, Evanston-Uinta County Burns Field, RNAV (GPS) RWY 5, Orig

Evanston, WY, Evanston-Uinta County Burns Field, RNAV (GPS) RWY 23, Orig

The FAA published the following procedure in Docket No. 30339; Amdt. No. 3031 to Part 97 of the Federal Aviation Regulations (Vol. 67, FR No. 225, Page 70155; dated Thursday, November 21, 2002) under section 97.29 effective November 28, 2002 which is hereby amended to be effective December 26, 2002:

Sacramento, CA, Sacramento Mather, ILS RWY 22L, Amdt 3

[FR Doc. 02-30441 Filed 12-2-02; 8:45 am]

BILLING CODE 4910-13-M